DEPARTMENT OF THE INTERIOR

National Park Service

Task Force Meeting Notice

AGENCY: National Park Service, Jean Lafitte National Historical Park and Preserve.

ACTION: Notice of task force meetings.

SUMMARY: Notice is hereby given in accordance with the Federal Advisory Committee Act, 5 U.S.C. App.1, Section 10(a)(2), that the next three meetings of the Chalmette Battlefield Task Force Committee will be held at 3 p.m. at the following location and dates:

DATES: Meetings are scheduled Wednesday, May 26, 2004, Wednesday, June 16, 2004, and Wednesday, August 18, 2004. Each meeting will be announced in the local paper and/or through public service announcements.

ADDRESSES: The Council Chambers Meeting Room at the St. Bernard Parish Government Complex, 8201 W. Judge Perez Drive in Chalmette, LA 70043.

FOR FURTHER INFORMATION CONTACT: Ms. Geraldine Smith, Superintendent, Jean Lafitte National Historical Park and Preserve, 419 Decatur Street, New Orleans, LA 70130, (504) 589-3882, extension 137 or 108 or from the park Web site at http://www.nps.gov/jela.htm.

SUPPLEMENTARY INFORMATION: The purpose of the Chalmette Battlefield Task Force Committee is to advise the Secretary of the Interior on suggested improvements at the Chalmette Battlefield site within Jean Lafitte National Historical Park and Preserve. The members of the Task Force are as follows: Ms. Elizabeth McDougall, chairperson, Ms. Faith Moran, Mr. Anthony A. Fernandez, Jr., Mr. Drew Heaphy, Mr. Alvin W. Guillot, Mrs. George W. Davis, Mr. Eric Cager, Mr. Paul V. Perez, Captain Bonnie Pepper Cook, Colonel John F. Pugh, Jr., and Geraldine Smith. The matters to be discussed are:

• The May 26, 2004 meeting is to include a review of the status of the Report Sub-committee, the status of the Louisiana State Historic Office representative's appointment, and a report from the Federal Designated Officer.

• The June 16, 2004 meeting is to include the draft report from the Report Sub-committee, and a review from the Federal Designated Officer on the status of the General Management Plan and Development Concept Plan.

• The August 18, 2004 meeting is to include the presentation of the final Chalmette Battlefield Task Force Report to the Federal Designated Officer.

These meetings will be open to the public; however facilities and space for accommodating members of the public are limited. Any member of the public may file with the committee a written statement concerning the matters to be discussed. Written statements may also be submitted to the Superintendent at the address above. Minutes of the meeting will be available at park headquarters at 419 Decatur Street, New Orleans, Louisiana for public inspection approximately 4 weeks after the meeting and on the park Web site at http://www.nps.gov/jela.htm.

Dated: March 16, 2004.
Patricia A. Hooks,
Regional Director, Southeast Region.

[FR Doc. 04-8166 Filed 4-9-04; 8:45 am]

BILLING CODE 4310-L6-P